DEPARTMENT OF COMMERCE

National Oceanic and Atmospheric Administration

50 CFR Parts 300, 600, and 679

[Docket No. 020801186 3073 02; I.D.053102D]

RIN 0648 AQ09

Pacific Halibut Fisheries; Subsistence Fishing; Correction

AGENCY: National Marine Fisheries Service (NMFS), National Oceanic and Atmospheric Administration (NOAA), Commerce.

ACTION: Final rule; correction.

SUMMARY: This document corrects the final rule that implemented the Pacific Halibut Subsistence Program, which published on April 15, 2003.

DATES: Effective on May 15, 2003.

FOR FURTHER INFORMATION CONTACT: Patsy A. Bearden, NMFS, 907-586-7228 or e-mail at patsy.bearden@noaa.gov.

SUPPLEMENTARY INFORMATION: This document corrects the final rule, which published on April 15, 2003 (68 FR 18145) FR Doc. 03-8822, and which will become effective on May 15, 2003. The intext table entitled VII. NORTH PACIFIC FISHERY MANAGEMENT COUNCIL of 50 CFR part 600.725(v) was incorrect. This action corrects the heading by removing “Allowable gear types” and by adding in its place “Authorized gear types.” This action will not have any substantive regulatory effect.

Classification

This action corrects a typographic error, a non-discretionary technical change with no substantive effects. Pursuant to 5 U.S.C. 553(b)(B), the Assistant Administrator of Fisheries (AA), NOAA, finds good cause to waive prior notice and comment procedures otherwise required by the section. NOAA finds that prior notice and comment are unnecessary as this final rule makes a minor, non-substantive change to correct wording in a heading of a table. NOAA finds that because of the technical, non-substantive nature of the correction, no particular public interest exists in this rule for which prior notice and comment would otherwise be needed. For the above reasons, the AA also finds good cause, under 5 U.S.C. 553(d) not to delay for 30 days the effective date of this action.

List of Subjects in 50 CFR Part 679

Alaska, Fisheries, Recordkeeping and reporting requirements.

Dated: May 8, 2003.
Rebecca Lent,
Deputy Assistant Administrator for Regulatory Programs, National Marine Fisheries Service.

PART 600—MAGNUSON-STEVENS ACT PROVISIONS

1. The authority citation for part 600 continues to read as follows:

Authority: 5 U.S.C 561, 16 U.S.C. 773 et seq., and 16 U.S.C. 1801 et seq.

2. On page 18161, bottom of second column, in § 600.725, paragraph (v), correct table VII. NORTH PACIFIC FISHERY MANAGEMENT COUNCIL, by removing the second heading in the boxhead, “Allowable gear types”, and adding in its place “Authorized gear types”.

[FR Doc. 03-12040 Filed 5-14-03; 8:45 am]

BILLING CODE 3510-22-S